FEDERAL COMMUNICATIONS COMMISSION

Sunshine Act Meeting Notice

April 5, 2006.

Open Commission Meeting

Wednesday, April 12, 2006

The Federal Communications Commission will hold an open meeting on the subjects listed below on Wednesday, April 12, 2006, which is scheduled to commence at in Room TW-C305, at 445 12th Street, SW., Washington, DC.

Item No. | Bureau | Subject
1 | Office of Engineering and Technology and Wireless Tele-Communications | Title: Amendment of Part 2 of the Commission's Rules to Allocate Spectrum Below 3 GHz for Mobile and Fixed Services to Support the Introduction of New Advanced Wireless Services, including Third Generation Wireless Systems (ET Docket No. 00-258) and Services Rules for Advanced Wireless Services in the 1.7 GHz and 2.1 GHz Bands (WT Docket No. 02-353). Summary: The Commission will consider a Ninth Report and Order and Order establishing procedures for the relocation of Broadband Radio Service and Fixed Microwave Service operations, including cost sharing obligations, in the 2.1 GHz band, as well as addressing a related petition for reconsideration.
2 | Wireless Tele-Communications and International and Office of Engineering and Technology | Title: Amendment of Parts 1, 21, 73, 74 and 101 of the Commission's Rules to Facilitate the Provision of Fixed and Mobile Broadband Access, Educational and Other Advanced Services in the 2150-2162 and 2500-2690 MHz Bands (WT Docket No. 03-66, RM-10586); Part 1 of the Commission's Rules—Further Competitive Bidding Procedures (WT Docket No. 03-67); Amendment of Parts 21 and 74 to Enable Multipoint Distribution Service and the Instructional Television Fixed Service Amendment of Parts 21 and 74 to Engage in Fixed Two-Way Transmissions (MM Docket No. 97-217); Amendment of Parts 21 and 74 of the Commission's Rules with Regard to Licensing in the Multipoint Distribution Service and in the Instructional Television Fixed Service for the Gulf of Mexico (WT Docket No. 02-68, RM-9718); Promoting Efficient Use of Spectrum Through Elimination of Barriers to the Development of Secondary Markets (WT Docket No. 00-230); Review of the Spectrum Sharing Plan Among Non-Geostationary Satellite Orbit Mobile Satellite Service Systems in the 1.6/2.4 GHz Bands (IB Docket No. 02-364); and Amendment of Part 2 of the Commission's Rules to Allocate Spectrum Below 3 GHz for Mobile and Fixed Services to Support the Introduction of New Advanced Wireless Services, Including Third Generation Wireless Systems (ET Docket No. 00-258). Summary: The Commission will consider an Order on Reconsideration and Fourth Memorandum Opinion and Order addressing spectrum sharing among incumbent and future services in the 2495-2500 MHz band. The Commission will also consider a Third Memorandum Opinion and Order and Second Report and Order concerning changes to the service rules applicable to the Broadband Radio Service and the Educational Broadband Service.
3 | Wireless Tele-Communications | Title: Auction of Advanced Wireless Services Licenses Scheduled for June 29, 2006; Notice and Filing Requirements, Minimum Opening Bids, Upfront Payments and Other Procedures for Auction No. 66 (AU Docket No. 06-30). Summary: The Commission will consider a Public Notice addressing filing requirements, minimum opening bids, upfront payments and other procedures for Auction No. 66, an auction of licenses for Advanced Wireless Services scheduled for June 29, 2006.
4 | Wireless Tele-Communications | Title: Petition by Forest Conservation Council, American Bird Conservancy and Friends of the Earth for National Environmental Policy Act Compliance. Summary: The Commission will consider a Memorandum Opinion and Order addressing the petition filed by Forest Conservation Council, American Bird Conservancy and Friends of the Earth for National Environmental Policy Act Compliance.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 06-3449 Filed 4-6-06; 11:47 am]

BILLING CODE 6712-01-P